FEDERAL COMMUNICATIONS COMMISSION

47 CFR Part 73

[DA 04-1418; MB Docket No. 04-204; RM-10661]

Radio Broadcasting Services; Birmingham, Alabama and Calhoun, GA

AGENCY: Federal Communications Commission.

ACTION: Proposed rule.

SUMMARY: This document requests comments on a petition for rulemaking filed by SSR Communications Incorporated requesting the allotment of Channel 233A at Calhoun, Georgia, as its first FM aural broadcast service. The proposal also requires the reclassification of Station WYSF(FM), Birmingham, Georgia, Channel 233C to specify operation on Channel 233C0 pursuant to the reclassification procedures adopted by the Commission. See Second Report and Order in MM Docket 98-93, 1998 Biennial Regulatory Review—Streamlining of Radio Technical Rules in Parts 73 and 74 of the Commission's Rules, 65 FR 79773 (2000). An Order to Show Cause was issued to Citadel Broadcasting Company, licensee of Station WYSF(FM). Channel 233A can be allotted at Calhoun, Georgia, at Petitioner's requested site 10.8 kilometers (6.7 miles) east of the community to avoid short-spacing to the license site of Station WMUU(FM), Channel 233C, Greenville, South Carolina. The reference coordinates for Channel 233A at Calhoun are 34-31-48 NL and 84-50-19 WL.

DATES: Comments must be filed on or before July 19, 2004, and reply comments on or before August 3, 2004. Any counterproposal filed in this proceeding need only protect Station WYSF(FM), Birmingham, Georgia, as a Class C0 allotment.

ADDRESSES: Federal Communications Commission, 445 12th Street, SW., Washington, DC 20554. In addition to filing comments with the FCC, interested parties should serve the petitioner as follows: Matthew K. Wesolowski, General Manager, SSR Communications Incorporated, 5270 West Jones Bridge Road, Norcross, Georgia 30092-1628.

FOR FURTHER INFORMATION CONTACT: Rolanda F. Smith, Media Bureau, (202) 418-2180.

SUPPLEMENTARY INFORMATION: This is a synopsis of the Commission's Notice of Proposed Rule Making, MB Docket No. 04-204, adopted May 26, 2004, and released May 28, 2004. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Alabama is amended by removing Channel 233C and by adding Channel 233C0 at Birmingham.

3. Section 73.202(b), the Table of FM Allotments under Georgia is amended by adding Calhoun, Channel 233A.

Federal Communications Commission.
John A. Karousos,
Assistant Chief, Audio Division, Media Bureau.

[FR Doc. 04-13808 Filed 6-17-04; 8:45 am]

BILLING CODE 6712-01-P